DEPARTMENT OF COMMERCE

International Trade Administration

Announcement of Approved International Trade Administration Trade Mission

AGENCY: International Trade Administration, Department of Commerce.

SUMMARY: The United States Department of Commerce, International Trade Administration (ITA), is announcing one upcoming trade mission that will be recruited, organized, and implemented by ITA. This mission is: Trade Winds Europe/Eurasia Trade Mission and Business Development Forum to Istanbul, Türkiye May 9-17, 2024. A summary of the mission is found below. Application information and more detailed mission information, including the commercial setting and sector information, can be found at the trade mission website: https://www.trade.gov/trade-missions. For this mission, recruitment will be conducted in an open and public manner, including publication in the Federal Register, posting on the Commerce Department trade mission calendar (https://www.trade.gov/trade-missions-schedule) and other internet websites, press releases to general and trade media, direct mail, broadcast fax, notices by industry trade associations and other multiplier groups, and publicity at industry meetings, symposia, conferences, and trade shows.

FOR FURTHER INFORMATION CONTACT: Jeffrey Odum, Trade Events Task Force, International Trade Administration, U.S. Department of Commerce, 1401 Constitution Avenue NW, Washington DC 20230; telephone (202) 482-6397 or email Jeffrey.Odum@trade.gov.

SUPPLEMENTARY INFORMATION:

The Following Conditions for Participation Will Be Used for the Mission

Applicants must submit a completed and signed mission application and supplemental application materials, including adequate information on their products and/or services, primary market objectives, and goals for participation that is adequate to allow the Department of Commerce to evaluate their application. If the Department of Commerce receives an incomplete application, the Department of Commerce may either: reject the application, request additional information/clarification, or take the lack of information into account when evaluating the application. If the requisite minimum number of participants is not selected for a particular mission by the recruitment deadline, the mission may be cancelled.

Each applicant must also certify that the products and services it seeks to export through the mission are either produced in the United States, or, if not, are marketed under the name of a U.S. firm and have at least fifty-one percent U.S. content by value. In the case of a trade association or organization, the applicant must certify that, for each firm or service provider to be represented by the association/organization, the products and/or services the represented firm or service provider seeks to export are either produced in the United States or, if not, marketed under the name of a U.S. firm and have at least 51% U.S. content by value.

A trade association/organization applicant must certify to the above for every company it seeks to represent on the mission. In addition, each applicant must:

• Certify that the products and services that it wishes to market through the mission would be in compliance with U.S. export controls and regulations;

• Certify that it has identified any matter pending before any bureau or office in the Department of Commerce;

• Certify that it has identified any pending litigation (including any administrative proceedings) to which it is a party that involves the Department of Commerce; and

• Sign and submit an agreement that it and its affiliates (1) have not and will not engage in the bribery of foreign officials in connection with a company's/participant's involvement in this mission, and (2) maintain and enforce a policy that prohibits the bribery of foreign officials.

In the case of a trade association/organization, the applicant must certify that each firm or service provider to be represented by the association/organization can make the above certifications.

The Following Selection Criteria Will Be Used for the Mission

Targeted mission participants are U.S. firms, services providers and trade associations/organizations providing or promoting U.S. products and services that have an interest in entering or expanding their business in the mission's destination markets. The following criteria will be evaluated in selecting participants:

• Suitability of the applicant's (or in the case of a trade association/organization, represented firm's or service provider's) products or services to these markets;

• The applicant's (or in the case of a trade association/organization, represented firm's or service provider's) potential for business in the markets, including likelihood of exports resulting from the mission; and

• Consistency of the applicant's (or in the case of a trade association/organization, represented firm's or service provider's) goals and objectives with the stated scope of the mission.

Balance of company size and location may also be considered during the review process.

Referrals from a political party or partisan political group or any information, including on the application, containing references to political contributions or other partisan political activities will be excluded from the application and will not be considered during the selection process. The applicant will be notified of these exclusions. The Department of Commerce will evaluate applications and inform applicants of selection decisions on a rolling basis until the maximum number of participants has been selected.

Definition of Small- and Medium-Sized Enterprise

For purposes of assessing participation fees, an applicant is a small or medium-sized enterprise (SME) if it qualifies as a “small business” under the Small Business Administration's (SBA) size standards (https://www.sba.gov/document/support—table-size-standards), which vary by North American Industry Classification System (NAICS) Code. The SBA Size Standards Tool (https://www.sba.gov/size-standards) can help you determine the qualifications that apply to your company.

Mission List: (additional information about trade missions can be found at https://www.trade.gov/trade-missions).

Trade Winds Europe/Eurasia Trade Mission and Business Development Forum to Istanbul, Türkiye—May 9-17, 2024

Summary

The United States Department of Commerce, International Trade Administration (ITA), U.S. and Foreign Commercial Service (USFCS) is organizing a Trade Winds Europe/EurasiaTrade Mission that will include the Trade Winds Europe/Eurasia Business Forum in Istanbul, Türkiye, Monday, May 13-Wednesday, May 15.

All trade mission members will participate in the Trade Winds Europe/Eurasia Business Forum (Monday, May 13-Wednesday, March 15 in Istanbul, which will also be open to U.S. companies not participating in the trade mission. Trade mission members may travel first to Italy or Romania on May 9 for spins-offs and/or travel on Thursday, May 16 to Denmark, Kazakhstan or Poland.

The Istanbul Trade Winds Forum will feature U.S. Commercial Diplomats from over 25 Europe and Eurasia markets.

Trade mission participants may participate in their choice of mission stops based on recommendations from the USFCS. Each trade mission stop will include one-on-one business appointments with pre-screened potential buyers, agents, distributors and joint-venture partners, and networking events. Companies that would like to participate in more than three mission stops can do so by having additional representatives travel to the various stops.

This mission is open to U.S. companies from a cross section of industries with growth potential in Europe and Eurasia, including but not limited to: advanced manufacturing, aerospace & defense, design & construction, energy/energy security, environmental/clean technologies, information & communication technologies, and healthcare.

Website: Please visit our official mission website for more information: https://events.trade.gov/TradeWindsEuropeEurasia.

Proposed Timetable:

This timetable allows for clients to take part in business matchmaking across the diverse Europe/Eurasia marketplace by offering scheduled business-to-business meetings in Türkiye, Denmark, Italy, Kazakhstan, Poland and Romania. This structure ensures that each post has set days for meetings that allow the clients to explore at least three of their best prospects for business. The final schedule will depend on the availability of host government and business officials, specific goals of mission participants, and ground transportation.

Thursday, May 9, 2024—Trade mission participants arrive in Italy or Romania

Friday, May 10, 2024—Business-to-Business matchmaking meetings and evening networking receptions

Saturday, May 11, 2024—Travel day

Sunday, May 12, 2024—Trade mission participants arrive in Istanbul

Monday, May 13, 2024—Istanbul:

Trade Winds Europe/Eurasia Business Forum market briefings

Self-scheduled consultations with U.S. government trade representatives

Networking reception with Trade Winds Europe/Eurasia Business Forum participants

Tuesday, May 14, 2024—Istanbul:

Trade Winds Europe/Eurasia Business Forum market briefings

Self-scheduled consultations with U.S. government trade representatives

Trade Winds main reception with U.S. and Turkish government and business attendees

Wednesday, May 15, 2024—Istanbul:

Trade Winds Europe/Eurasia Business Forum market briefings

Self-scheduled consultations with U.S. government trade representatives

Business-to-Business matchmaking meetings

Thursday, May 16, 2024—Depart Istanbul and arrive in Denmark, Kazakhstan, or Poland

No-host dinner or networking activity with mission delegates and U.S. Embassy officials

Friday, May 17, 2024—Business-to-Business mission matchmaking meetings and evening networking receptions

Participation Requirements

All parties interested in participating in the trade mission to Türkiye (including mission stops with business matchmaking in Türkiye, Denmark, Italy, Kazakhstan, Poland and/or Romania must complete and submit an application package for consideration by the U.S. Department of Commerce. All applicants will be evaluated on their ability to meet certain conditions and best satisfy the selection criteria as outlined below. A minimum of 45 and a maximum of 55 firms and/or trade associations will be selected to participate in the mission on a rolling basis. Mission stop participation will be limited as follows:

Türkiye: 30

Denmark: 15

Italy: 15

Kazakhstan: 5

Poland: 15

Romania: 15

Additional delegates may be accepted on available space. U.S. firms and/or trade associations already doing business in Türkiye, Denmark, Italy, Kazakhstan, Poland and Romania or seeing business in these markets for the first time may apply.

Fees and Expenses

After a firm or trade association has been selected to participate on the mission, a payment to the Department of Commerce in the form of a participation fee is required. The fees are as follow:

The participation fee will be $2,200 for small or medium-sized enterprises (SME) and $4,200 for large firms, which includes the Business Forum in Istanbul and one mission stop. The fee for each additional mission stop is $1,200 and there will be a $500 fee for each additional firm representative (large firm or SME). There is no additional fee for additional representatives at the same stop. The fee for firms to only participate in the Business Forum in Istanbul from May 13-15, 2024 is $750 per attendee.

If and when an applicant is selected to participate on a particular mission, a payment to the Department of Commerce in the amount of the designated participation fee is required. Upon notification of acceptance to participate, those selected have 5 business days to submit payment or the acceptance may be revoked.

Participants selected for a trade mission will be expected to pay for the cost of personal expenses, including, but not limited to, international travel, lodging, meals, transportation, communication, and incidentals, unless otherwise noted. Participants will, however, be able to take advantage of U.S. Government rates for hotel rooms. In the event that a mission is cancelled, no personal expenses paid in anticipation of a mission will be reimbursed. However, participation fees for a cancelled mission will be reimbursed to the extent they have not already been expended in anticipation of the mission.

If a visa is required to travel on a particular mission, applying for and obtaining such a visa will be the responsibility of the mission participant. Government fees and processing expenses to obtain such a visa are not included in the participation fee. However, the Department of Commerce will provide instructions to each participant on the procedures required to obtain business visas.

Trade mission members participate in trade missions and undertake mission-related travel at their own risk. The nature of the security situation in a given foreign market at a given time cannot be guaranteed. The U.S. Government does not make any representations or guarantees as to the safety or security of participants. The U.S. Department of State issues U.S. Government international travel alerts and warnings for U.S. citizens available at https://travel.state.gov/content/passports/en/alertswarnings.html. Any question regarding insurance coverage must be resolved by the participant and its insurer of choice.

Travel and in-person activities are contingent upon the safety and health conditions in the United States and the mission countries. Should safety or health conditions not be appropriate for travel and/or in-person activities, the Department will consider postponing the event or offering a virtual program in lieu of an in-person agenda. In the event of a postponement, the Department will notify the public and applicants previously selected to participate in this mission will need to confirm their availability but need not reapply. Should the decision be made to organize a virtual program, the Department will adjust fees accordingly, prepare an agenda for virtual activities, and notify the previously selected applicants with the option to opt-in to the new virtual program.

Timeframe for Recruitment and Applications

Mission recruitment will be conducted in an open and public manner, including publication in the Federal Register, posting on the Department of Commerce trade mission calendar (http://export.gov/trademissions) and other internet websites, press releases to general and trade media, direct mail, notices by industry trade associations and other multiplier groups, and publicity at industry meetings, symposia, conferences, and trade shows. Recruitment for the mission will begin immediately and conclude no later than March 31, 2024. The Department of Commerce will evaluate applications and inform applicants of selection decisions on a rolling basis until the maximum number of participants has been selected. Applications received after March 31, 2024, will be considered only if space and scheduling constraints permit.

Contacts

U.S. Contact Information

Jim Mayfield, Director, U.S. Commercial Service Irvine, CA; Jim.Mayfield@trade.gov, Tel: 949-246-1768

Judy Kornfeld, National Events Manager, U.S. Commercial Service; Judy.Kornfeld@trade.gov, Tel: 202-482-1239

Türkiye Contact Information

Yasue Pai, Principal Commercial Officer, U.S. Commercial Service Istanbul; Yasue.Pai@trade.gov, Tel: 90-501-706-3388

Gemal Brangman,
Director, ITA Events Management Task Force.

[FR Doc. 2023-26062 Filed 11-24-23; 8:45 am]

BILLING CODE 3510-DR-P